SECURITIES AND EXCHANGE COMMISSION

[Release No. 34-104100; File No. 4-698]

Joint Industry Plan; Notice of Filing and Immediate Effectiveness of Amendment to the National Market System Plan Governing the Consolidated Audit Trail Regarding Conversion and Name Change of NYSE Chicago, Inc. to NYSE Texas, Inc.

September 26, 2025.

Pursuant to Section 11A(a)(3) of the Securities Exchange Act of 1934 (“Act”) ¹ and Rule 608 thereunder,² notice is hereby given that on September 12, 2025, Consolidated Audit Trail, LLC (“CAT LLC”), on behalf of the Participants ³ in the National Market System Plan Governing the Consolidated Audit Trail ⁴ (the “CAT NMS Plan” or “Plan”) filed with the Securities and Exchange Commission (“Commission”) an amendment to the CAT NMS Plan. The amendment to the CAT NMS Plan. The Commission is publishing this notice to solicit comments on the amendment from interested persons.

¹ 15 U.S.C. 78k-1(a)(3).

² 17 CFR 242.608.

³ The Participants to the CAT NMS Plan are: BOX Exchange LLC; Cboe BYX Exchange, Inc.; Cboe BZX Exchange, Inc.; Cboe C2 Exchange, Inc.; Cboe EDGA Exchange, Inc.; Cboe EDGX Exchange, Inc.; Cboe Exchange, Inc.; Financial Industry Regulatory Authority, Inc.; Investors Exchange LLC; Long-Term Stock Exchange, Inc.; MEMX LLC; Miami International Securities Exchange LLC; MIAX Emerald, LLC; MIAX PEARL, LLC; MIAX Sapphire, LLC; Nasdaq BX, Inc.; Nasdaq GEMX, LLC; Nasdaq ISE, LLC; Nasdaq MRX, LLC; Nasdaq PHLX LLC; The NASDAQ Stock Market LLC; New York Stock Exchange LLC; NYSE American LLC; NYSE Arca, Inc.; NYSE Texas, Inc.; NYSE National, Inc.; and 24X National Exchange LLC.

⁴ The CAT NMS Plan is a national market system plan approved by the Commission pursuant to Section 11A of the Exchange Act and the rules and regulations thereunder. See Securities Exchange Act Release No. 79318 (Nov. 15, 2016), 81 FR 84695 (Nov. 23, 2016) (order approving the CAT NMS Plan).

I. Description and Purpose of the Amendment

On February 28, 2025, the Commission published an order approving a proposed rule change filed by NYSE Chicago, Inc. (the “Exchange”) whereby the Exchange would convert from a Delaware corporation to a Texas corporation and change its name to “NYSE Texas, Inc.” ⁵ By virtue of the conversion, the Exchange converted from a Delaware corporation to a Texas corporation, but is deemed to be the same legal entity. CAT LLC is now filing this proposed amendment under Rule 608(b)(3)(iii) to make corresponding technical revisions to the CAT NMS Plan to: (1) replace all references to “NYSE Chicago, Inc.” with “NYSE Texas, Inc.”; and (2) update the Exchange's business address in Exhibit A of the CAT NMS Plan to: NYSE Texas, Inc., 4020 Maple Avenue, Suite 800, Dallas, Texas 75219.

⁵ See Exchange Act Rel. No. 102507 (Feb. 28, 2025), 90 FR 11445 (Mar. 6, 2025), available at https://www.govinfo.gov/content/pkg/FR-2025-03-06/pdf/2025-03617.pdf.

II. Effectiveness of the Proposed Plan Amendment

The foregoing CAT NMS Plan amendment has become effective pursuant to Rule 608(b)(3)(iii) ⁶ because it involves solely technical or ministerial matters. At any time within sixty days of the filing of this amendment, the Commission may summarily abrogate the amendment and require that it be refiled pursuant to paragraph (a)(1) of Rule 608,⁷ if it appears to the Commission that such action is necessary or appropriate in the public interest, for the protection of investors or the maintenance of fair and orderly markets, to remove impediments to, and perfect the mechanisms of, a national market system or otherwise in furtherance of the purposes of the Act.

⁶ 17 CFR 242.608(b)(3)(iii).

⁷ 17 CFR 242.608(a)(1).

III. Solicitation of Comments

Interested persons are invited to submit written data, views and arguments concerning the foregoing, including whether the amendment is consistent with the Act. Comments may be submitted by any of the following methods:

Electronic Comments

• Use the Commission's internet comment form (https://www.sec.gov/rules/sro.shtml); or

• Send an email to rule-comments@sec.gov. Please include file number 4-698 on the subject line.

Paper Comments

• Send paper comments in triplicate to Secretary, Securities and Exchange Commission, 100 F Street NE, Washington, DC 20549-1090.

All submissions should refer to file number 4-698. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number 4-698 and should be submitted on or before October 21, 2025.

For the Commission, by the Division of Trading and Markets, pursuant to delegated authority.⁸
⁸ 17 CFR 200.30-3(a)(85).
Sherry R. Haywood,
Assistant Secretary.

[FR Doc. 2025-19049 Filed 9-29-25; 8:45 am]

BILLING CODE 8011-01-P